DEPARTMENT OF ENERGY

Federal Energy Regulatory Commission

[Project No. 7630-005]

Town of South Hill, Virginia; Notice of Intent To Prepare an Environmental Assessment

On April 20, 2020, the Town of South Hill, Virginia (exemptee) filed an application to surrender its exemption from licensing for the Whittles Mill Dam Hydroelectric Project No. 7630. The project is located on the Meherrin River in the Town of South Hill in Mecklenburg County, Virginia. The project does not occupy Federal lands.

The exemptee proposes to surrender its exemption from licensing for the project. The project has been disconnected from its power source and has not operated since May 16, 2014. No ground disturbing activities are proposed and project features would remain in place, as they are part of the Whittle's Mill Historic Site and Park. A Notice of Application Accepted for Filing and Soliciting Comments, Motions to Intervene, and Protest was issued on June 3, 2020.

This notice identifies Commission staff's intention to prepare an environmental assessment (EA) for the proposed action. The planned schedule for the completion of the EA is June 2024.¹ Revisions to the schedule may be made as appropriate. The EA will be issued and made available for review by all interested parties. All comments filed on the EA will be reviewed by staff and considered in the Commission's final decision on the proceeding.

¹ 42 U.S.C. 4336a(g)(1)(B) requires lead Federal agencies to complete EAs within 1 year of the agency's decision to prepare an EA.

With this notice, the Commission is inviting Federal, State, local, and Tribal agencies with jurisdiction and/or special expertise with respect to environmental issues affected by the proposal to cooperate in the preparation of the EA planned to be issued June 2024. Agencies wishing to cooperate, or further discuss the benefits, responsibilities, and obligations of the cooperating agency role, should contact staff listed at the bottom of this notice by February 19, 2024. Cooperating agencies should note the Commission's policy that agencies that cooperate in the preparation of any environmental document cannot also intervene. See 94 FERC ¶ 61,076 (2001).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Rebecca Martin at 202-502-6012 or Rebecca.martin@ferc.gov.

Dated: January 29, 2024.
Debbie-Anne A. Reese,
Acting Secretary.

[FR Doc. 2024-02098 Filed 2-1-24; 8:45 am]

BILLING CODE 6717-01-P